DEPARTMENT OF THE INTERIOR

Bureau of Land Management

[LLNVS01000.L58530000.ES0000 241A; N-93838-01; 14-08807; MO# 4500088787 TAS:14X5232]

Notice of Realty Action: Recreation and Public Purposes Lease (N-93838), Transfer of Interest and Change of Use of Public Lands in Clark County, NV

AGENCY: Bureau of Land Management, Interior.

ACTION: Notice.

SUMMARY: The Bureau of Land Management (BLM), Las Vegas Field Office, received notification from the City of Las Vegas to transfer their interest of a previously approved Recreation and Public Purposes (R&PP) Act lease to Opportunity Village. Opportunity Village, (a nonprofit) proposes to change the use of the original R&PP lease from a park site to a park, unemployment resource center, and arts enrichment center with appurtenances for children and adults with intellectual disabilities.

DATES: Comments regarding the transfer of interest and the change of use must be submitted to the BLM on or before April 18, 2016.

ADDRESSES: Send written comments to the BLM Las Vegas Field Office, 4701 N. Torrey Pines Drive, Las Vegas, Nevada 89130, or email: kthorpe@blm.gov.

FOR FURTHER INFORMATION CONTACT: Kerri-Anne Thorpe, 702-515-5196, or kthorpe@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The transfer of interest requested by the City of Las Vegas to Opportunity Village and the change of use from a park site to a park, unemployment resource center, and arts enrichment center with appurtenances for children and adults with intellectual disabilities is consistent with the BLM Las Vegas Resource Management Plan dated October 5, 1998, and would be in the public interest. The change of use area was previously analyzed under Environmental Assessments NV-050-30 dated June 30, 1983, and NV-S010-2009-0012-EA dated December 30, 2008. The environmental consequences of the new use were reviewed in Determination of NEPA Adequacy DOI-BLM-NV-S010-2016-0008-DNA dated January 11, 2016. On February 18, 2015, the City of Las Vegas relinquished 16.61 acres to allow Opportunity Village to apply for an R&PP lease for park, unemployment resource center, and arts enrichment center with appurtenances for children and adults with intellectual disabilities. The parcel of land is located on the corner of Thom and Rome Boulevard in Las Vegas, Nevada, and is legally described as:

Mount Diablo Meridian, Nevada

T. 19 S., R. 60 E.,

Sec. 24, lot 5.

The area described contains 16.61 acres.

The change of use area would be from a park site to a park, unemployment resource center, and arts enrichment center with appurtenances for children and adults with intellectual disabilities. The appurtenances include a storage building, loading dock, refuse enclosure, parking lots, landscaping, lighting, walkways, drainage, irrigation, utilities, and ancillary improvements. Additional detailed information pertaining to this application, plan of development, and site plan is in case file N-93838, which is located at the BLM, Las Vegas Field Office at the address listed above.

The land is not required for any Federal purpose. The Opportunity Village, a qualified applicant under the R&PP Act, has not applied for more than the 640 acre limitation consistent with 43 CFR 2741.7(a)(5), and has submitted a statement in compliance with the regulation at 43 CFR 2741.4(b).

The change of use of the public land shall be subject to valid existing rights as previously published. Upon publication of this notice in the Federal Register, the land above will be segregated from all other forms of appropriation under the public land laws, including the general mining laws, except for lease and/or subsequent conveyance under the R&PP Act, leasing under the mineral laws, and disposals under the mineral material disposal laws.

Interested parties may submit written comments on the suitability of the land for use as a park, unemployment resource center, and arts enrichment center with appurtenances for children and adults with intellectual disabilities. Interested parties may also submit written comments regarding the specific use proposed in the application and plan of development, and whether the BLM followed proper administrative procedures in reaching the decision to change the use from a park to a park, unemployment resource center, and arts enrichment center with appurtenances for children and adults with intellectual disabilities under the R&PP Act, or any other factor not directly related to the suitability of the land for R&PP use.

Before including your address, phone number, email address, or other personal identifying information in your comment, you should be aware that your entire comment—including your personal identifying information—may be made publicly available at any time. While you can ask us in your comment to withhold your personal identifying information from public review, we cannot guarantee that we will be able to do so.

Any adverse comments will be reviewed by the BLM Nevada State Director or other authorized official of the Department of the Interior, who may sustain, vacate, or modify this realty action. In the absence of any adverse comments, the decision will become effective on May 3, 2016.

Authority: 43 CFR 2741.5(h).

Vanessa L. Hice,
Assistant Field Manager, Las Vegas Field Office.

[FR Doc. 2016-04807 Filed 3-3-16; 8:45 am]

BILLING CODE 4310-HC-P